OFFICE OF PERSONNEL MANAGEMENT

Notice of Federal Long Term Care Insurance Program (FLTCIP)—Suspension of Applications for FLTCIP Coverage

AGENCY: Office of Personnel Management.

ACTION: Notice of Suspension of Applications for FLTCIP Coverage for Currently and Newly Eligible Individuals.

SUMMARY: The U.S. Office of Personnel Management (OPM) is announcing a suspension of applications for Federal Long Term Care Insurance Program (FLTCIP) coverage. During the suspension period, no applications for FLTCIP coverage will be accepted, and current enrollees may not apply to increase their coverage. Eligible individuals who submit an application for FLTCIP to the program administrator, Long Term Care Partners, LLC, prior to the date that the suspension period begins, will have their application considered. If the Carrier approves the application for coverage, the individual will receive a benefit booklet and schedule of benefits with complete coverage information.

DATES: The suspension period will begin on December 19, 2022. The suspension period will remain in effect for 24 months from the date the suspension period begins.

FOR FURTHER INFORMATION CONTACT: You may call 1-800-LTC-FEDS (1-800-582-3337) (TTY: 1-800-843-3557) or visit http://www.ltcfeds.com. For purposes of this Federal Register notice only, the contact at OPM is Dyan Dyttmer, Senior Policy Analyst, at dyan.dyttmer@opm.gov or (202) 936-0152.

SUPPLEMENTARY INFORMATION: OPM is suspending applications for coverage in FLTCIP to allow OPM and the FLTCIP Carrier to assess the benefit offerings and establish sustainable premium rates that reasonably and equitably reflect the cost of the benefits provided, as required under 5 U.S.C. 9003(b)(2). OPM has issued regulations [CITE FINAL RULE] setting forth the process for suspension of applications in 5 CFR 875.110.

Authority: 5 U.S.C. 9008; Public Law 116-92, 133 Stat. 1198 (5 U.S.C. 8956 note); 5 CFR 875.110.

Office of Personnel Management.
Stephen Hickman,
Federal Register Liaison.

[FR Doc. 2022-24882 Filed 11-17-22; 8:45 am]

BILLING CODE 6325-63-P